DEPARTMENT OF ENERGY

Federal Energy Regulatory Commission

18 CFR Parts 1b and 157

[Docket No. RM10-21-000; Order No. 734]

Transferring Certain Enforcement Hotline Matters to the Dispute Resolution Service: Correction

AGENCY: Federal Energy Regulatory Commission.

ACTION: Final Rule: correction.

SUMMARY: The Federal Energy Regulatory Commission is correcting a final rule that appeared in the Federal Register of April 26, 2010, 75 FR 21503.

The document transferred certain enforcement hotline matters to the Commission's Dispute Resolution Service. This document corrects various Part references on the first page of the rule and in the amendatory language.

DATES: Effective May 1, 2010.

FOR FURTHER INFORMATION CONTACT: Stuart Fischer, Office of Enforcement, Federal Energy Regulatory Commission, 888 First Street, NE., Washington, DC 20426, (202) 502-8517.

Nils Nichols, Office of Administrative Litigation/Dispute Resolution Service, Federal Energy Regulatory Commission, 888 First Street, NE., Washington, DC 20426, (202) 502-8638.

SUPPLEMENTARY INFORMATION: In FR Document 2010-9125, published April 26, 2010 (75 FR 21403), make the following corrections:

1. On page 21503, column 2, the part heading is corrected to read: “18 CFR Parts 1b and 157”.

2. On page 21505, column 2, the words of issuance are corrected to read as follows:

“In consideration of the foregoing, the Commission amends parts 1b and 157, Chapter 1, Title 18, Code of Federal Regulations, to read as follows:”

3. On page 21505, column 3, amendatory instruction 1 is corrected to read as follows:

“1. The authority citation for part 157 continues to read as follows:”

Nathaniel J. Davis, Sr.,
Deputy Secretary.

[FR Doc. 2010-10453 Filed 5-4-10; 8:45 am]

BILLING CODE 6717-01-P